DEPARTMENT OF ENERGY

[GDO Docket No. EA-510]

Application for Authorization To Export Electric Energy; MFT Energy US Power LLC

AGENCY: Grid Deployment Office, Department of Energy.

ACTION: Notice of application.

SUMMARY: MFT Energy US Power LLC (the Applicant) has applied for authorization to transmit electric energy from the United States to Mexico pursuant to the Federal Power Act.

DATES: Comments, protests, or motions to intervene must be submitted on or before July 5, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On April 9, 2024, MFT Energy US Power LLC filed an application (Application or App.) with DOE to transmit electric energy from the United States to Mexico for a ten-year term. App. at 1.

According to the Application, MFT Energy US Power LLC “is a limited liability company organized under the laws of the state of Delaware” with its principal place of business in Chicago, Illinois. Id. The Applicant states that it “does not own or control any electric power generation or transmission facilities and does not have a franchised electric power service area.” Id. Further, MFT Energy US Power LLC represents that it “operates as a power marketer” and holds market-based rate authority provided by the Federal Energy Regulatory Commission (FERC). Id. at 1-2.

The Applicant states it “will purchase surplus electric energy from entities within the United States to be exported to Mexico.” Id. at 4. Because the electric energy proposed to be exported will be surplus, the Applicant asserts its exports “will not impair the sufficiency of electric supply within the United States.” Id. Further, the Applicant states that “all electricity exported by Applicant will be transmitted pursuant to arrangements with utilities that own and operate existing transmission facilities and will be consistent with all applicable export limits on those transmitting facilities and with other terms and conditions contained in the applicable Presidential Permits.” App. at 5. Therefore, the Applicant asserts its exports will not impede the regional coordination of the electric grid. Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning MFT Energy US Power LLC's Application should be clearly marked with GDO Docket No. EA-510. Additional copies are to be provided directly to Simon Fisker Rathjen, MFT Energy US Power LLC, 70 W Madison Street, Chicago, Illinois 60602, sr@mft-energy.com and uspower@mft-energy.com; James C. Beh, Jones Day, 51 Louisiana Ave. NW, Washington, DC 20001, jcbeh@jonesday.com; and Brooke M. Proto, Jones Day, 51 Louisiana Ave. NW, Washington, DC 20001, bmproto@jonesday.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on May 29, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 30, 2024.
Treena V. Garrett,
Federal Register Liaison Officer, U.S. Department of Energy.

[FR Doc. 2024-12186 Filed 6-3-24; 8:45 am]

BILLING CODE 6450-01-P